LIBRARY OF CONGRESS

United States Copyright Office

37 CFR Parts 201 and 210

[Docket No. 2012-1]

Copyright Office Fees

AGENCY: U.S. Copyright Office, Library of Congress.

ACTION: Notice of proposed rulemaking: Extension of reply comment periods.

SUMMARY: The United States Copyright Office is extending the deadline for filing reply comments regarding its notice of proposed rulemaking concerning the establishment of a fee schedule for filing cable and satellite statements of account for use of the statutory licenses that provide for the secondary transmission of broadcast programming by cable and satellite companies.

DATES: Reply comments on the proposed regulation must be received in the Office of the General Counsel of the Copyright Office no later than 5 p.m. Eastern Daylight Time (EDT) on February 15, 2013.

ADDRESSES: The Copyright Office strongly prefers that reply comments be submitted electronically. A comment submission page is posted on the Copyright Office Web site at http://www.copyright.gov/docs/newfees/comments/. The Web site interface requires submitters to complete a form specifying name and other required information, and to upload comments as an attachment. To meet accessibility standards, all comments must be uploaded in a single file in either the Adobe Portable Document File (PDF) format that contai ns searchable, accessible text (not an image); Microsoft Word; WordPerfect; Rich Text Format (RTF); or ASCII text file format (not a scanned document). The maximum file size is 6 megabytes (MB). The name of the submitter and organization should appear on both the form and the face of the comments. All comments will be posted publicly on the Copyright Office Web site exactly as they are received, along with names and organizations if provided. If electronic submission of comments is not feasible, please contact the U.S. Copyright Office at (202) 707-8380 for special instructions.

FOR FURTHER INFORMATION CONTACT: Megan Rivet, Budget Analyst, or Melissa Dadant, Senior Advisor for Operations and Special Projects, at (202) 707-8350.

SUPPLEMENTARY INFORMATION: On December 6, 2012, the U.S. Copyright Office published a notice of proposed rulemaking (“NPRM”) announcing a revised schedule of fees for filing semi-annual statements of account pursuant to 17 U.S.C. 111, 119, and 122 based upon a new cost study. 77 FR 72,788 (December 6, 2012). Comments to the proposed fees were due on January 7, 2013 and the Office received three comments at that time, including a comment from the National Cable & Telecommunications Association (“NCTA”).

In its comment, NCTA noted that it had submitted on December 13, 2012 a request pursuant to the Freedom of Information Act (“FOIA”) for the cost studies referenced in the Office's December 6 notice announcing new proposed fees. Subsequently, NCTA filed a motion on January 14, 2013 requesting an extension of the January 22, 2013 date for filing reply comments in anticipation of a response from the Office to its FOIA request. The Office is extending the time to file reply comments to 5:00 p.m. EST February 15, 2013 in order to provide additional time for stakeholders to prepare reply comments after the Office resolves the pending FOIA request.

Dated: January 16, 2013.
Tanya M. Sandros,
Deputy General Counsel.

[FR Doc. 2013-01291 Filed 1-24-13; 8:45 am]

BILLING CODE 1410-30-P